DEPARTMENT OF TRANSPORTATION

Federal Aviation Administration

14 CFR Part 39

[Docket No. 2001-NM-189-AD; Amendment 39-12715; AD 2002-08-07]

RIN 2120-AA64

Airworthiness Directives; Boeing Model 767-200, -300, and -300F Series Airplanes

AGENCY: Federal Aviation Administration, DOT.

ACTION: Final rule.

SUMMARY: This amendment adopts a new airworthiness directive (AD), applicable to all Boeing Model 767-200, -300, and -300F series airplanes. This AD requires examination of maintenance records to determine if Titanine JC5A (also known as Desoto 823E508) corrosion inhibiting compound (“C.I.C.”) was ever used; inspection for cracks or corrosion and corrective action, if applicable; repetitive inspections and C.I.C. applications; and modification of the aft trunnion area of the outer cylinder, which terminates the need for the repetitive inspections and C.I.C. applications. This action is necessary to prevent severe corrosion in the main landing gear (MLG) outer cylinder at the aft trunnion, which could develop into stress corrosion cracking and consequent collapse of the MLG. This action is intended to address the identified unsafe condition. The FAA is also planning to issue additional rulemaking to exclude the use of Titanine JC5A for compliance with previously issued ADs.

DATES: Effective May 6, 2002. The incorporation by reference of certain publications listed in the regulations is approved by the Director of the Federal Register as of May 6, 2002.

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: John Craycraft, Aerospace Engineer, Airframe Branch, ANM-120S, FAA, Seattle Aircraft Certification Office, 1601 Lind Avenue, SW., Renton, Washington 98055-4056; telephone (425) 227-2782; fax (425) 227-1181.

SUPPLEMENTARY INFORMATION: A proposal to amend part 39 of the Federal Aviation Regulations (14 CFR part 39) to include an airworthiness directive (AD) that is applicable to all Boeing Model 767-200, -300, and -300F series airplanes was published in the Federal Register on August 23, 2001 (66 FR 44313). That action proposed to require examination of maintenance records to determine if Titanine JC5A corrosion inhibiting compound (“C.I.C.”) was ever used; inspection for cracks or corrosion and corrective action, if applicable; repetitive inspections and C.I.C. applications; and modification of the aft trunnion area of the outer cylinder, which terminates the need for the repetitive inspections and C.I.C. applications.

Comments

Interested persons have been afforded an opportunity to participate in the making of this amendment. Due consideration has been given to the comments received.

Two commenters support the proposed AD.

Acknowledge Alternate Name for Titanine JC5A

One commenter, the airplane manufacturer, points out that the proposed AD only refers to “Titanine JC5A,” but this C.I.C. is also known by a Desoto product name, “Desoto 823E508.” The commenter asks that the proposed AD be revised to refer to this name as well.

The FAA concurs with the commenter's request. Any Titanine JC5A product, regardless of the trade name of the product, is subject to the same actions of this AD. We have revised paragraph (a) as well as the Summary section of this AD accordingly. Hereafter, this final rule refers to these products collectively as “JC5A.”

Request to Eliminate Redundant Requirements

One commenter requests that the FAA remove the requirement to perform the C.I.C. application before further flight, as stated in paragraphs (e)(1)(i), (e)(2)(i), (h)(1)(i), and (h)(2)(i)(A) of the proposed AD. The commenter notes that it is redundant to mandate application of C.I.C. in accordance with “Part 3 “ C.I.C. Application” of the service bulletin before further flight in these paragraphs because application of C.I.C. is already included as part of the Parts 1 and 2 inspection procedures.

The FAA partially concurs with the commenter's request. We do not intend for application of C.I.C. to be performed twice during the same maintenance visit. Accordingly, we have revised paragraphs (e)(1)(i), (e)(2)(i), and (h)(2)(i)(A) of this final rule to be consistent with the instructions in the service bulletin. With regard to the commenter's request to revise “paragraph (h)(1)(i),” we note that there is no such paragraph, and paragraph (h)(1) is already consistent with the service bulletin. Therefore, no further change has been made in this regard.

Limit Area of Prohibition

One commenter recommends that the proposed AD prohibit the application of JC5A only in the aft trunnion area of the main landing gear (MLG). The commenter notes that the wording of paragraph (l) of the proposed AD prohibits application of JC5A anywhere on the airplane. The commenter states that service history and laboratory test data have shown that typical usage of JC5A in thin layers (such as on fasteners and faying surfaces) does not promote corrosion.

While we neither accept nor reject the commenter's argument, we agree that the unsafe condition associated with this AD relates specifically to the aft trunnion of the MLG. Therefore, it is appropriate to limit the prohibition of the application of JC5A to the aft trunnion area of the MLG outer cylinder. We have revised paragraph (l) of this final rule accordingly.

Clarify Requirements of Paragraph (b)

One commenter requests that the FAA clarify the requirements of paragraph (b) of the proposed AD. That paragraph reads, “Except as required by paragraph (l) of this AD, if, according to the criteria of paragraph (a) of this AD, JC5A was never used, no further action is required by this AD.” The commenter does not understand what is meant by “paragraph (l) of this AD.”

The FAA concurs that clarification may be necessary. Paragraph (b) of this AD refers to the paragraph (l), which appears under the heading “Spares” in the proposed AD. For clarification, a new heading, “Use of JC5A Prohibited” has been added before paragraph (l) of this final rule, and paragraph (b) has been revised to read, “Except as provided by paragraph (l) (“Use of JC5A Prohibited”) of this AD,* * *”

Request To Supersede Multiple ADs

One commenter requests that the FAA revise the proposed AD to supersede AD 96-21-06, amendment 39-9783 (61 FR 55080, October 24, 1996), AD 95-19-10, amendment 39-9372 (60 FR 47689, September 14, 1995), and AD 95-20-51, amendment 39-9398 (60 FR 53109, October 12, 1995), with one AD. The commenter sees no benefit in having four ADs (i.e., the three listed previously and the proposed AD) that address the same area of the aft trunnion of the MLG on Model 767 series airplanes. The commenter states that superseding all of the ADs related to the aft trunnion would ease the administrative burden and simplify the recordkeeping associated with these ADs.

The FAA does not concur with the commenter's request. We note that the applicability statements of all three existing ADs differ; that is, all three ADs apply to different groups of airplanes. With this in mind, combining this AD and the three existing ADs referenced by the commenter into one superseding AD would result in a lengthy, highly complex AD, which may be confusing for operators. For this reason, we find that a combined AD would be likely to impose more of an administrative and recordkeeping burden, rather than less of one, as the commenter suggests, and could increase the potential for recordkeeping mistakes. For these reasons, we find it inappropriate to issue one supersedure to combine the three existing ADs with this AD. No change to the final rule is needed in this regard.

Extend Compliance Time for Terminating Action

One commenter requests that the FAA extend the compliance time for the proposed terminating action for certain airplanes. The commenter states that, for airplanes with Category 1 MLG, if an operator has exclusively used Mastinox 6856K C.I.C. on the aft trunnion area of the MLG since delivery of the airplane, and the initial detailed visual inspection according to the proposed AD does not reveal cracking or corrosion, the compliance time for the terminating action should be extended to the next MLG overhaul or 8 years since delivery of the airplane, whichever comes first. The commenter's request is based on the results of its initial detailed visual inspections, which showed the aft trunnion area of the MLG on its airplanes to be in “excellent condition.” The commenter believes that this condition is related to the application of Mastinox 6856K every 180 days since delivery of its airplanes, which has resulted in the Mastinox 6856K “pressing out” the JC5A from the aft trunnion area of the MLG. The commenter states that, since the JC5A was “pressed out” during the first in-service application of Mastinox 6856K, there would be no time for the JC5A to have deteriorated and caused damage.

The FAA does not concur. The flow of lubricant through the aft trunnion of the MLG has not been studied enough to allow the conclusion that application of a different lubricant would sufficiently remove or dilute the JC5A. Lubrication may not sufficiently flush out certain areas of the aft trunnion, and those areas may still be subject to corrosion. No change to the final rule is needed in this regard.

Restrict Applicability of Certain Requirements

One commenter requests that the proposed AD be revised to exempt airplanes with line numbers 834 and subsequent from having to accomplish the actions specified in the proposed AD. The commenter notes that the airplane manufacturer discontinued the use of JC5A in the aft trunnion of the MLG at line number 834.

The FAA does not concur. If the records review in paragraph (a) of this AD shows that JC5A has never been used on the aft trunnion of the MLG, either in production or after delivery, no further action is required, as specified in paragraph (b) of this AD. Airplanes with line numbers 834 and subsequent are still subject to the prohibition of the use of JC5A mandated by paragraph (l) of this AD. No change to the final rule is needed in this regard.

Acknowledge Alternative Method of Compliance

One commenter requests that the FAA revise paragraph (i) of the proposed AD to refer to Boeing Service Bulletin 767-32A0148, Revision 2, dated November 30, 2000, as an acceptable method of compliance with the proposed terminating action. The commenter states that the procedures in that service bulletin are equivalent to those in “Part 4—Terminating Action” of the Accomplishment Instructions of Boeing Alert Service Bulletin 767-32A0192, dated May 31, 2001 (which the proposed AD refers to as the appropriate source of service information for accomplishment of the requirements of paragraph (i)).

The FAA concurs with the intent of the commenter's request but does not concur that any change to the AD is necessary. We concur that accomplishment of Boeing Service Bulletin 767-32A0148, Revision 2, is acceptable for compliance with paragraph (i) of this AD for airplanes with line numbers 1 through 605. We have previously reviewed and approved that service bulletin, which describes procedures for repairing corrosion and replacing bushings in the aft trunnion of the MLG. However, we do not concur that any change to this final rule is necessary because, if Boeing Service Bulletin 767-32A0148, Revision 2, has been accomplished prior to the records examination required by paragraph (a) of this AD, and the records examination shows that JC5A was not used on the MLG subsequent to accomplishment of Boeing Service Bulletin 767-32A0148, Revision 2, no further action would be required by this AD, as specified in paragraph (b) of this AD.

Remove Paragraph (j)

One commenter requests that the FAA remove paragraph (j) of the proposed AD. That paragraph states that “Accomplishment of the actions specified in paragraph (i) of this AD is considered acceptable for compliance with the requirements of paragraph (e) of AD 96-21-06, amendment 39-9783.” The commenter points out that the FAA has previously issued another notice of proposed rulemaking (NPRM), Docket Number 2001-NM-198-AD, which proposes to supersede AD 96-21-06. Therefore, when AD 96-21-06 is superseded by another AD, paragraph (j) of the proposed AD will refer to an AD that does not exist. The commenter requests that the provisions of paragraph (j) be added to the AD that supersedes AD 96-21-06.

The FAA partially concurs with the commenter's request. We do not agree to remove paragraph (j) of this AD. Instead, to minimize confusion, we have retained paragraph (j) in this final rule but have revised it to refer to AD 2002-01-13, amendment 39-12607 (67 FR 3605, January 25, 2002), which is the AD that supersedes AD 96-21-06. In addition, we agree that it is appropriate to add the provisions of paragraph (j) of this AD to AD 2002-01-13. Therefore, a new paragraph (h) has been added to that AD to specify that accomplishment of “Part 4—Terminating Action” of the Accomplishment Instructions of Boeing Alert Service Bulletin 767-32A0192 constitutes terminating action for paragraph (e) of that AD.

Allow Reinstallation of MLG

One commenter requests that the FAA revise the Spares provision, paragraph (k), of the proposed AD. The commenter notes that, as proposed, if the MLG is removed from an airplane, that paragraph would require operators to accomplish paragraph (i), the terminating action, of the proposed AD, before the MLG could be re-installed on the airplane. The commenter states that this requirement is overly restrictive and could force operators to accomplish the terminating action earlier than otherwise would be required by the proposed AD.

Based on the commenter's request, the FAA finds that some clarification of paragraph (k) of the proposed AD may be necessary. The intent of paragraph (k) of this AD is to ensure that, if the MLG is removed from the airplane in the course of maintenance, the MLG outer cylinder will be replaced with an MLG outer cylinder on which JC5A has never been used or on which the terminating action required by this AD has been accomplished. We have revised paragraph (k) of this AD to clarify our intention.

Explanation of Additional Changes to Final Rule

In addition to the changes described previously, several typographical errors have been corrected in this final rule.

Conclusion

After careful review of the available data, including the comments noted above, the FAA has determined that air safety and the public interest require the adoption of the rule with the changes described previously. The FAA has determined that these changes will neither increase the economic burden on any operator nor increase the scope of the AD.

Cost Impact

There are approximately 806 Model 767-200, -300, and -300F series airplanes of the affected design in the worldwide fleet. The FAA estimates that 489 airplanes of U.S. registry will be affected by this AD. The approximate work hours required to accomplish the required actions are indicated in the table below. It is estimated that the average labor rate is $60 per work hour. Cost of required parts per airplane and the estimated cost impact of this AD on U.S. operators is indicated in the table below.

Estimated Costs
Category | Labor costs (at $60 per hour) | Parts costs | Total cost per Airplane | Total fleet cost (489 airplanes)
1 | Inspection—Bushings Removed 25 hours/1,500 | [Reserved] | 1,500 | 733,500
1 | Inspection—Bushings Not Removed—20 hours/$1,200 | [Reserved] | 1,200 | 586,800
1 | C.I.C. Application—5 hours/300 | [Reserved] | 300 | 146,700
1 | Terminating Action—218 hours/$13,080 | $6,356 | 19,436 | 9,504,204
2 | Inspection—Bushings Not Removed—20 hours/$1,200 | [Reserved] | 1,200 | 586,800
2 | C.I.C. Application 5 hours/$300 | [Reserved] | 300 | 146,700
Category 1: Airplanes with an undercut in the aft trunnion above.
Category 2: Airplanes without an undercut in the aft trunnion bore.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-08-07 Boeing: Amendment 39-12715. Docket 2001-NM-189-AD

.

Applicability: All Model 767-200, -300, and -300F series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (m) of this AD. The request should include an assessment of the effect of the modification, alteration, or repair on the unsafe condition addressed by this AD; and, if the unsafe condition has not been eliminated, the request should include specific proposed actions to address it.

Compliance: Required as indicated, unless accomplished previously.

To prevent severe corrosion in the main landing gear (MLG) outer cylinder at the aft trunnion, which could develop into stress corrosion cracking and consequent collapse of the MLG, accomplish the following:

Records Examination

(a) Within 90 days after the effective date of this AD, examine airplane records to determine if Titanine JC5A or Desoto 823E508 (hereafter collectively referred to as “JC5A”) corrosion inhibiting compound (“C. I. C.”) was used in the aft trunnion area of the MLG outer cylinder during general maintenance, overhaul, or incorporation of Boeing Alert Service Bulletin 767-32A0148, dated December 21, 1995, or Revision 1, dated October 10, 1996 (required by paragraph (e) of AD 96-21-06, amendment 39-9783); in accordance with Boeing Alert Service Bulletin 767-32A0192, dated May 31, 2001. If records do not show conclusively which compound was used, assume JC5A was used. Refer to Boeing Alert Service Bulletin 767-32A0192, dated May 31, 2001, for the line numbers of airplanes that were assembled new using JC5A.

Note 2: Prior to January 31, 2001, if BMS 3-27 was ordered from Boeing, Boeing shipped JC5A as a substitute.

MLGs on Which JC5A Was Not Used

(b) Except as provided by paragraph (l) (“Use of JC5A Prohibited”) of this AD, if, according to the criteria of paragraph (a) of this AD, JC5A was never used, no further action is required by this AD.

C.I.C. Applications, Inspections, and Corrective Actions if Necessary

(c) For Category 1 MLG outer cylinders as identified in Boeing Alert Service Bulletin 767-32A0192, dated May 31, 2001: If, according to the criteria of paragraph (a) of this AD, JC5A may have been used, perform the actions specified in both paragraphs (d) and (e) of this AD, as applicable, in accordance with Boeing Alert Service Bulletin 767-32A0192, dated May 31, 2001.

(d) For MLGs and MLG outer cylinders identified in paragraphs (d)(1), (d)(2), and (d)(3) of this AD: Within 90 days after the effective date of this AD, perform the C.I.C. application on the MLG in accordance with “Part 3—C.I.C. Application” of the Accomplishment Instructions of Boeing Alert Service Bulletin 767-32A0192, dated May 31, 2001. Thereafter, repeat at intervals not to exceed 180 days until the terminating action required by paragraph (i) of this AD has been accomplished.

(1) MLG outer cylinders that are less than 3 years old since new.

(2) MLGs that have been overhauled less than 3 years ago.

(3) MLGs on which rework per Boeing Alert Service Bulletin 767-32A0148, dated December 21, 1995, or Revision 1, dated October 10, 1996, was accomplished less than 3 years ago.

(e) Before the MLG outer cylinder is 3 years old since new, since last overhaul, or since rework per Boeing Alert Service Bulletin 767-32A0148, dated December 21, 1995, or Revision 1, dated October 10, 1996; or within 90 days after the effective date of this AD; whichever is later; perform a detailed visual inspection for cracks and corrosion of the cross bolt bushing holes and chamfers in accordance with “Part 1—Cross Bolt Hole Inspection—Bushings Removed” of the Accomplishment Instructions of Boeing Alert Service Bulletin 767-32A0192, dated May 31, 2001.

Note 3: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If no crack or corrosion is found during the detailed visual inspection required by paragraph (e) of this AD, perform the actions in paragraphs (e)(1)(i), (e)(1)(ii), and (e)(1)(iii) of this AD, at the applicable times indicated.

(i) Before further flight, perform the restoration steps shown in Figure 2 of the service bulletin, and thereafter at intervals not to exceed 180 days, perform the C.I.C. application on the landing gear in accordance with “Part 3—C.I.C. Application” of the Accomplishment Instructions of the service bulletin.

(ii) Within 18 months after performing the detailed visual inspection required by paragraph (e) of this AD, and thereafter at intervals not to exceed 18 months, perform the detailed visual inspection for cracks and corrosion of the cross bolt hole inner chamfer, in accordance with “Part 2—Cross Bolt Hole Inner Chamfer Inspection—Bushings Not Removed” of the Accomplishment Instructions of the service bulletin, until the terminating action required by paragraph (i) of this AD has been accomplished.

(iii) Before the MLG cylinder is 6½ years since new, since last overhaul, or since rework per Boeing Alert Service Bulletin 767-32A0148, dated December 21, 1995, or Revision 1, dated October 10, 1996; whichever is later; perform the terminating action described in paragraph (i) of this AD.

(2) If any corrosion is found on the cross bolt holes or outer chamfers during the detailed visual inspection required by paragraph (e) of this AD, before further flight, remove the corrosion per Figure 2 of the service bulletin.

(i) If all of the corrosion can be removed, before further flight, perform the restoration steps shown in Figure 2 of the service bulletin, and thereafter at intervals not to exceed 180 days, perform the C.I.C. application on the MLG in accordance with “Part 3—C.I.C. Application” of the Accomplishment Instructions of the service bulletin, and perform the terminating action described in paragraph (i) of this AD, at the applicable time specified in paragraphs (e)(2)(i)(A) or (e)(2)(i)(B) of this AD.

(A) If the MLG outer cylinder is less than 5 years old since new, if the MLG was last overhauled less than 5 years ago, or if rework per Boeing Alert Service Bulletin 767-32A0148, dated December 21, 1995, or Revision 1, dated October 10, 1996, was accomplished less than 5 years ago: Within 18 months after performing the detailed visual inspection required by paragraph (e) of this AD.

(B) If the MLG outer cylinder is 5 years old or more since new; if the MLG was last overhauled 5 years ago or more; or if rework per Boeing Alert Service Bulletin 767-32A0148, dated December 21, 1995, or Revision 1, dated October 10, 1996, was accomplished 5 years ago or more: Before the MLG outer cylinder is 6½ years old since new, since last overhaul, or since rework per Boeing Alert Service Bulletin 767-32A0148, dated December 21, 1995, or Revision 1, dated October 10, 1996; whichever is later.

(ii) If any corrosion cannot be removed, before further flight, perform the terminating action described in paragraph (i) of this AD.

(3) If any crack is found anywhere during the detailed visual inspection required in paragraph (e) of this AD, or if corrosion in the inner cross bolt hole chamfers is found, before further flight, perform the terminating action described in paragraph (i) of this AD.

(f) For Category 2 MLG outer cylinders as identified in Boeing Alert Service Bulletin 767-32A0192, dated May 31, 2001: If, according to the criteria of paragraph (a) of this AD, JC5A may have been used, perform the actions specified in both paragraphs (g) and (h) of this AD, as applicable, in accordance with Boeing Alert Service Bulletin 767-32A0192, dated May 31, 2001.

(g) For MLGs and MLG outer cylinders identified in paragraphs (g)(1) and (g)(2) of this AD: Within 90 days after the effective date of this AD, perform the C.I.C. application on the MLG in accordance with “Part 3—C.I.C. Application” of the Accomplishment Instructions of Boeing Alert Service Bulletin 767-32A0192, dated May 31, 2001. Thereafter, repeat the application at intervals not to exceed 180 days until the terminating action required by paragraph (i) of this AD has been accomplished.

(1) MLG outer cylinders that are less than 3 years old since new.

(2) MLGs that have been overhauled less than 3 years ago.

(h) Before the MLG outer cylinder is 3 years old since new or since the last overhaul, or within 90 days of the effective date of this AD, whichever is later, perform a detailed visual inspection for cracks and corrosion of the cross bolt hole inner chamfer, in accordance with “Part 2—Crossbolt Hole Inner Chamfer Inspection—Bushings Not Removed” of the Accomplishment Instructions of Boeing Alert Service Bulletin 767-32A0192, dated May 31, 2001.

(1) If no crack or corrosion is found during the inspection required by paragraph (h) of this AD, before further flight, and thereafter at intervals not to exceed 180 days, perform the C.I.C. application on the MLG in accordance with “Part 3—C.I.C. Application” of the Accomplishment Instructions of the service bulletin, until the next MLG overhaul. After the next MLG overhaul has been completed, no further action is required by this AD.

(2) If any corrosion is found during the detailed visual inspection required by paragraph (h) of this AD, before further flight, remove the cross bolt bushings and perform the detailed visual inspection specified in paragraph (e) of this AD, and remove the corrosion per Figure 2 of the service bulletin.

(i) If all of the corrosion can be removed, perform the actions specified in paragraph (h)(2)(i)(A) and (h)(2)(i)(B) of this AD, at the applicable times indicated.

(A) Prior to further flight, perform the restoration steps shown in Figure 2 of the service bulletin, and thereafter at intervals not to exceed 180 days, perform the C.I.C. application on the MLG in accordance with “Part 3—C.I.C. Application” of the Accomplishment Instructions of the service bulletin.

(B) Within 18 months after the corrosion removal required by paragraph (h)(2) of this AD, perform the terminating action described in paragraph (i) of this AD.

(ii) If all the corrosion cannot be removed, before further flight, perform the terminating action required by paragraph (i) of this AD.

(3) If any crack is found during the detailed visual inspection required by paragraph (h) of this AD, before further flight, perform the terminating action described in paragraph (i) of this AD.

Terminating Action

(i) Perform the terminating action (including removal of the existing bushings, repair of the aft trunnion area of the outer cylinder, and machining and installation of new bushings) in accordance with “Part 4—Terminating Action” of the Accomplishment Instructions of Boeing Alert Service Bulletin 767-32A0192, dated May 31, 2001. Completion of the terminating action terminates the requirements for the repetitive inspections and C.I.C. applications of this AD.

(j) Accomplishment of the actions specified in paragraph (i) of this AD is considered acceptable for compliance with the requirements of paragraph (e) of AD 2002-01-13, amendment 39-12607.

Spares

(k) As of the effective date of this AD, no person shall install on any airplane an MLG outer cylinder unless maintenance records conclusively show that JC5A has never been used on that MLG outer cylinder, or unless it complies with paragraph (i) of this AD.

Use of JC5A Prohibited

(l) As of the effective date of this AD, no person shall use the C.I.C. JC5A in the aft trunnion area of the MLG outer cylinder on any airplane.

Alternative Methods of Compliance

(m) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 4: Information concerning the existence of approved alternative methods of compliance with this AD, if any, may be obtained from the Seattle ACO.

Special Flight Permits

(n) Special flight permits may be issued in accordance with §§ 21.197 and 21.199 of the Federal Aviation Regulations (14 CFR 21.197 and 21.199) to operate the airplane to a location where the requirements of this AD can be accomplished.

Incorporation by Reference

(o) The actions shall be done in accordance with Boeing Alert Service Bulletin 767-32A0192, dated May 31, 2001. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(p) This amendment becomes effective on May 6, 2002.

Issued in Renton, Washington, on April 11, 2002.
Vi L. Lipski,
Manager, Transport Airplane Directorate, Aircraft Certification Service.

[FR Doc. 02-9392 Filed 4-18-02; 8:45 am]

BILLING CODE 4910-13-U